DEPARTMENT OF THE INTERIOR

Bureau of Land Management

[LLOR936000.L1440000.ET0000.16XL1109AF; HAG 16-0207]

Notice of Amended Proposed Withdrawal and Notice of Public Meetings; Oregon

AGENCY: Bureau of Land Management, Interior.

ACTION: Notice.

SUMMARY: The Assistant Secretary of the Interior for Land and Minerals Management has approved an amendment to a previously filed application to withdraw public domain and Revested Oregon California Railroad lands (O&C) managed by the Bureau of Land Management (BLM) and National Forest System (NFS) lands managed by the U.S. Forest Service (Forest Service) while Congress considers legislation to permanently withdraw those lands. Such legislation is currently pending in the 114th Congress as S. 346 and H.R. 682 and identified as the “Southwestern Oregon Watershed and Salmon Protection Act of 2015.” This Notice amends the prior proposal notice of which was published in the Federal Register on June 29, 2015, to increase the proposed withdrawal term from 5 years to 20 years, and to add that the withdrawal is also being proposed at the request of the BLM and the Forest Service, to protect the Southwestern Oregon watershed from possible adverse effects of mineral development. This notice gives the public an opportunity to comment on the amended application and announces the dates, times, and locations of public meetings.

DATES: Comments must be received by December 29, 2016.

FOR FURTHER INFORMATION CONTACT: Jacob Childers, Oregon State Office, Bureau of Land Management, at 503-808-6225 or by email jcchilders@blm.gov, or Candice Polisky, USFS Pacific Northwest Region, at 503-808-2479. Persons who use a telecommunications device for the deaf (TDD) may call the Federal Information Relay Service (FIRS) at 1-800-877-8339 to reach either of the above individuals. The FIRS is available 24 hours a day, 7 days a week, to leave a message or question with the above individuals. You will receive a reply during normal business hours.

ADDRESSES: Written comments should be sent to the Bureau of Land Management, Oregon State Office (OR936), P.O. Box 2965, Portland, Oregon 97208-2965.

SUPPLEMENTARY INFORMATION: The BLM and Forest Service amended petition/application requests the Secretary to withdraw, subject to valid existing rights, approximately 5,216.18 acres of BLM-managed public domain and O&C lands and 95,805.53 acres of Forest Service-managed NFS lands from settlement, sale, location, and entry under the public land laws; location and entry under the United States mining laws, and operation of the mineral and geothermal leasing laws, for a period of 20 years while Congress considers legislation to permanently withdraw those areas and, at the request of the BLM and the Forest Service, to protect the Southwestern Oregon watershed from possible adverse effects of mineral development. The lands identified by notice in the Federal Register on June 29, 2015 (80 FR 37015), are incorporated by reference. The areas described aggregate 101,021.71 acres in Josephine and Curry Counties.

The approved petition/application constitutes a withdrawal proposal of the Secretary of the Interior (43 CFR 2310.1-3(e)).

Records relating to the application may be examined by contacting the BLM at the above address and phone number.

For a period until December 29, 2016, all persons who wish to submit comments, suggestions, or objections in connection with the amended withdrawal application may present their views in writing to the Oregon State Director, BLM, at the above address or by email at blm_or_wa_withdrawals@blm.gov. Information regarding the amended withdrawal application will be available for public review at the BLM Oregon State Office during regular business hours, 8:45 a.m. to 4:30 p.m., Monday through Friday, except Federal holidays. Before including your address, phone number, email address, or other personal identifying information in your comment, you should be aware that your entire comment—including your personal identifying information—may be made publicly available at any time. Individuals who submit written comments may request confidentiality by asking us in your comment to withhold your personal identifying information from public review; however, we cannot guarantee that we will be able to do so.

Notice is hereby given that public meetings will be held in connection with the amended proposed withdrawal. A notice of the times and places of the public meetings will be announced at least 30 days in advance in the Federal Register and through local media, newspapers, and the BLM and the USFS Web sites.

The amended application does not affect the current segregation, which expires June 28, 2017, unless the application is denied or canceled or the withdrawal is approved prior to that date.

The application will be processed in accordance with the regulations set forth in 43 CFR part 2300.

Leslie A. Frewing,
Chief, Branch of Land, Minerals, and Energy Resources, Acting.

[FR Doc. 2016-23797 Filed 9-29-16; 8:45 am]

BILLING CODE 3411-15-P